DEPARTMENT OF THE INTERIOR

Fish and Wildlife Service

[FWS-R5-R-2009-N184; BAC-4311-K9-S3]

Nantucket National Wildlife Refuge, Nantucket, MA; Draft Comprehensive Conservation Plan, Land Protection Plan, and Environmental Assessment

AGENCY: Fish and Wildlife Service, Interior.

ACTION: Notice of availability; request for comments.

SUMMARY: We, the U.S. Fish and Wildlife Service (Service), announce the availability of a draft comprehensive conservation plan (CCP), including a land protection plan (LPP), and environmental assessment (EA) for Nantucket National Wildlife Refuge (NWR) for public review and comment. The draft CCP/EA describes our proposal for managing the refuge for the next 15 years.

DATES: To ensure consideration, please send your written comments by September 1, 2011. We will hold at least one public meeting in Nantucket, MA, during the public comment period to receive comments and provide information on the draft plan. We will also announce opportunities for public input in local news media, our project mailing list, and on our regional planning Web site: http://www.fws.gov/northeast/planning/nantucket/ccphome.html.

ADDRESSES: You may submit comments or requests for copies or more information by any one of the following methods. You may request hard copies or a CD-ROM of the documents.

E-mail: northeastplanning@fws.gov. Include “Nantucket NWR draft CCP/EA” in the subject line of the message.

Fax: Attention: Carl Melberg, 978-443-2898.

U.S. Mail: Eastern Massachusetts NWR Complex, 73 Weir Hill Road, Sudbury, MA 01776.

In-Person Drop-off, Viewing, or Pickup: Call 978-443-4661 to make an appointment (necessary for view/pickup only) during regular business hours at the above address.

FOR FURTHER INFORMATION CONTACT: Carl Melberg, Planning Team Leader, 978-443-4661, extension 32 (phone); northeastplanning@fws.gov (e-mail).

SUPPLEMENTARY INFORMATION:

Introduction

With this notice, we continue the CCP process for Nantucket NWR, on Nantucket Island in the Town of Nantucket, Massachusetts. We started this process through a notice in the Federal Register (73 FR 18806; April 7, 2008).

Nantucket NWR was established in 1973, under an Act Authorizing the Transfer of Certain Real Property for Wildlife, or other Purposes (16 U.S.C. 667b, Pub. L. 80-537), which authorized the U.S. Coast Guard (USCG) to transfer the property to the Service, because of “its particular value in carrying out the Migratory Bird Act.” The USCG currently maintains ownership of a 1-acre inholding on the refuge that contains the Great Point Lighthouse. Nantucket NWR lies at the northern tip of a narrow peninsula that forms the northernmost point of Nantucket Island. The tip is known locally as “Great Point,” and the peninsula is known as the “Coskata-Coatue Peninsula.” The only way visitors can access the refuge by land is via a road through The Trustees of Reservations' (TTOR) Coskata-Coatue Refuge and Nantucket Conservation Foundation (NCF) properties, both of which lie due south of the refuge on the peninsula.

The refuge erodes and accretes constantly, but averages 20 acres in size. The refuge is a barrier beach system, where two longshore currents meet to form a rip current and dynamically erode and/or build the spit. The refuge is composed of beach and dune habitat that serves the needs of a wide diversity of water and land birds of conservation concern, including seabirds, colonial nesting birds such as common and roseate terns, shorebirds such as piping plover and oystercatcher, and marine mammals such as gray seals. Nantucket NWR is one of eight refuges in the Eastern Massachusetts NWR Complex.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

The extensive planning history for this refuge began with the publication of a notice in the Federal Register (64 FR 9166; February 24, 1999) announcing we were preparing a CCP and environmental impact statement (EIS) for all eight refuges in what was then known as the Great Meadows NWR Complex. In 2001, we determined it was not feasible to prepare a single CCP for all eight refuges, and thus prepared another notice in the Federal Register (66 FR 10506; February 15, 2001), to indicate that a CCP/EIS would be prepared for Monomoy, Nantucket, and Nomans Land Island NWRs. However, no work was initiated on the plan at that time. In 2008, because of the different issues facing the refuges, the Service determined it was more efficient to proceed through the CCP process for each refuge separately, and published a notice in the Federal Register (73 FR 18806; April 7, 2008) to begin a separate CCP/EA process for Nantucket NWR. At that time, and throughout the process, we requested public comments and considered and incorporated them in numerous ways.

The CCP planning team consisted of Service staff from refuges, planning, visitor services, migratory bird, and endangered species, as well as representatives from the Massachusetts Division of Fisheries and Wildlife, the Wampanoag Tribe of Gay Head (Aquinnah) (WTOGHA), and the Mashpee Wampanoag Tribe (MWT). Partner and public meetings were held during October 2008. Attendees to the partner and public meetings included the Service, WTOGHA, MWT, TTOR, NCF, Massachusetts Audubon, Nantucket Anglers Club, Maria Mitchell Association, Nantucket Civic League, Nantucket Land Council, Nantucket Wetlands Board, and numerous unaffiliated individuals.

Issues from the public comment period focused on maintaining a balance between resource protection and beach access, increasing education and interpretation of the resources, increasing communications about management decisions, and cooperating in land management with adjacent land managers. Other issues included potential effects on public recreation by the presence of seals, staffing and enforcement needs, determining compatibility for recreational uses, creating a protocol for cultural resource protection, and planning for future land acquisition opportunities. We have considered and evaluated all of these comments, and have addressed many of them by incorporating them into the various alternatives in the draft CCP/EA.

CCP Alternatives We Are Considering

Our draft CCP/EA includes a full description of each issue noted above. To address these issues, we developed and evaluated the following alternatives in the draft CCP/EA, summarized below.

Alternative A (Current Management)

This alternative is the “No Action” alternative required by the National Environmental Policy Act (42 U.S.C. 4321 et seq.). Alternative A defines our current management activities, and serves as the baseline against which to compare the other alternatives. This alternative describes current refuge programs on approximately 20 acres for habitat management, fish and wildlife inventories and monitoring, administrative infrastructure and staffing, and visitor services. Under this alternative, TTOR would continue to provide on-site management of Nantucket NWR, and the Service would continue its passive management role and minimal presence on the refuge. The remote location of the refuge, along with limited staffing and funding resources, restricts our ability to maintain a consistent presence, or to actively oversee and implement management actions. Instead, we would continue to coordinate with TTOR for installing symbolic fencing and implementing beach closures to protect breeding and staging birds and seal haulout sites on the refuge.

Under alternative A, the Service would maintain oversight, but visitor services programs would continue to be implemented primarily by partners, such as TTOR. The Service's role has not been visible, and many visitors are unaware that the tip of Great Point is a NWR. Priority public uses, such as wildlife observation, photography, environmental education, interpretation, and fishing, are currently allowed on the refuge and would continue where beach access is permitted. Hunting is the only priority public use that is not allowed on the refuge due to the refuge's small size and types of habitat.

In this alternative, refuge staffing would remain at current levels stationed at the Eastern Massachusetts NWR Complex headquarters in Sudbury, Massachusetts. We would continue discussions to pursue a partnership agreement with TTOR, which would include resource management, visitor use, and shared funding sources to help contribute to refuge operations.

Alternative B (Enhanced Wildlife and Visitor Services) (Service-Preferred Alternative)

Alternative B is the alternative our planning team proposes to recommend to our Regional Director for implementation. It includes an array of management actions that, in our professional judgment, work best towards achieving the refuge's purposes, vision, and goals, and would make an important contribution to conserving Federal trust resources of concern. This alternative provides the most appropriate level and type of management for Service staff managing the eight refuges in the Eastern Massachusetts NWR Complex. We believe this is the most reasonable, feasible, and practicable alternative.

This alternative describes increased Service management and presence over the next 15 years on the 20-acre refuge, and on the additional 1,790 acres proposed for Service acquisition from willing sellers in fee or easement, as funding and staffing levels permit. Additionally, it strives to provide a balance between habitat and species conservation and public use and access. We would increase our presence on the refuge to both implement and monitor habitat management actions, and provide higher quality opportunities for the five priority public uses currently allowed. It would also enhance partnerships with local conservation organizations and civic groups.

Under this alternative, the Service would take a more active role in habitat and species management on the refuge, targeting the protection of dynamic coastal beach and dune systems and the avian and mammalian species that rely on them for critical nesting, resting, foraging, and staging habitat. The additional protection proposed would likely result in access restrictions and/or closures on the refuge during certain seasons or in some years. Species management would follow Federal piping plover recovery guidelines and State plover and tern guidelines, and would benefit other species such as nesting American oystercatchers. In the late summer/early fall, we would provide additional habitat protection for staging terns from vehicular and pedestrian disturbance. We would also continue to work closely with TTOR, NCF, and our other partners to accomplish these management actions with an emphasis on landscape-level conservation and more consistent management between peninsula partners.

The Service would pursue acquisition of Federal (excess and surplus) land, including the old USCG Long Range Navigation and Federal Aviation Administration facilities, as well as easements and acquisitions from willing sellers on key parcels on the Coskata-Coatue Peninsula on or near Nantucket Island, to further enhance landscape-level conservation. A draft LPP, which requires Director's approval before it can be implemented, is included as Appendix G.

Under alternative B, we would also increase priority public-use opportunities, with an emphasis on fishing, wildlife observation, environmental education, and interpretation, which would be accomplished by working with partners. Subject to funding availability, we would conduct a study to evaluate alternative means of transporting people to the refuge without the use of individual vehicles. A primitive foot trail is proposed from the lighthouse to the refuge's eastern beach for pedestrian and fishing access. We would also explore the opportunity to install a webcam on the lighthouse, and facilitate outreach opportunities and activities for visitors and residents of Nantucket Island to highlight the Service's role as a steward of natural resources.

Under alternative B, we propose a level of staffing that meets the minimum requirements for a refuge of this complexity by adding a part-time, year-round visitor services specialist and a full-time biologist stationed on Nantucket Island, and a new law enforcement officer stationed at Monomoy NWR in Chatham, Massachusetts.

Alternative C (Wildlife Diversity and Natural Processes Emphasis)

This alternative would focus on managing for wildlife diversity and natural coastal processes. It would emphasize species and habitat protection on the refuge through actions such as not allowing over-sand vehicles (OSV) over most of the refuge during April 1 through September 15. This would be implemented to minimize disturbance to nesting and migrating birds, and to reduce the impacts on macroinvertebrates, vegetative communities, and dune structure and function. Staff would monitor and evaluate nesting success and productivity for priority bird species of conservation concern.

Alternative C includes expansion of current management and staffing over the next 15 years on the refuge. It would also involve targeted fee and easement acquisition of excess and surplus Federal lands and other key conservation properties on Nantucket Island as opportunities arise.

Visitor services would be the same as under alternative B, except for the longer, more restrictive OSV closure zones from April 1 through September 15 each year. Also, the Service would collaborate with partners to disseminate information on this seasonal OSV restriction on the refuge.

Similar to alternative B, this alternative proposes a joint visitor facility with TTOR and NCF, a kiosk and interpretive panels, and a trail through the refuge with a viewing platform and/or photo blind. Also similar to alternative B, we would explore the opportunity to install a webcam on the lighthouse, and facilitate outreach opportunities and activities for visitors and residents of Nantucket Island to highlight the Service's role as a steward of natural resources.

Public Availability of Documents

In addition to any methods in ADDRESSES, you can view or obtain documents on our regional planning Web site: http://www.fws.gov/northeast/planning/nantucket/ccphome.html.

Public Meetings

We will hold at least one public meeting during the public comment period. For more information on the meeting schedule, contact the person under FOR FURTHER INFORMATION CONTACT.

Next Steps

After this comment period ends, we will analyze the comments and address them in the form of a final CCP and finding of no significant impact.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: May 20, 2011.
Wendi Weber,
Acting Regional Director, Northeast Region, U.S. Fish and Wildlife Service, Hadley, Massachusetts.

[FR Doc. 2011-19503 Filed 8-1-11; 8:45 am]

BILLING CODE 4310-55-P